NATIONAL SCIENCE FOUNDATION

DOE/NSF Nuclear Science Advisory Committee Notice of Meeting

In accordance with the Federal Advisory Committee Act (Public Law 92-463, as amended), the National Science Foundation announces the following meeting:

Name: DOE/NSF Nuclear Science Advisory Committee (1176).

Date and Time: Thursday, March 14, 2002; 9 a.m.-6 p.m., Friday, March 15, 2001; 9 a.m.-6 p.m.

Place: Stafford II Building, Room 595, National Science Foundation, 4121 Wilson Blvd., Arlington, VA 22230.

Type of Meeting: Open.

Contact Person: Dr. Bradley D. Keister, Program Director for Nuclear Physics, National Science Foundation, 4201 Wilson Blvd., Arlington, VA 22230. Telephone: (703) 292—7377.

Purpose of Meeting: To provide advice and recommendations concerning the scientific programs of the NSF and DOE in the area of basic nuclear physics research.

Agenda:

March 14, 2002

Introduction (J. Symons)

Report from DOE

Report from NSF

Discussion of agency issues

Report on BESAC activities (J. Schiffer)

Discussion of Long-Range Plan short document

Public Comment

March 15, 2002

Continued Discussion of agency issues and Long-Range Plan short document

Dated: February 12, 2002.
Susanne Bolton,
Committee Management Officer.

[FR Doc. 02-3787 Filed 2-14-02; 8:45 am]

BILLING CODE 7555-01-M